DEPARTMENT OF TRANSPORTATION

Coast Guard

33 CFR Part 175

[USCG-2001-10163]

RIN 2115-AG18

Federal Requirements For Propeller Injury Avoidance Measures

AGENCY: Coast Guard, DOT.

ACTION: Notice of proposed rulemaking; reopening of comment period.

SUMMARY: The Coast Guard is reopening the period for public comment concerning federal requirements for propeller injury avoidance measures. The president of the National Association of State Boating Law Administrators (NASBLA) asked that we reopen the comment period, which ended March 11, 2002, so its Committee could discuss the proposed rule at its meeting in April 2002 and so NASBLA could submit a comment to the docket. We are reopening the period until May 11, 2002, so that NASBLA and other interested persons can submit comments.

DATES: Comments must reach the docket on or before May 11, 2002.

ADDRESSES: Identify your comments and related material by the docket number for this rulemaking [USCG-2001-10163]. To make sure they do not enter the docket more than once, please submit them by only one of the following means:

(1) By mail to the Docket Management Facility, U. S. Department of Transportation, room PL-401, 400 Seventh Street SW., Washington, DC 20590-0001.

(2) By hand-delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Internet Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, at the address listed above between 9 a.m. and 5 p.m., Monday through Friday, except Federal holidays. You may also find this docket on the Internet at http://dms.dot.gov. You may obtain a copy of this notice by calling the Infoline of the U. S. Coast Guard at 1-800-368-5647, or read it on the Internet, at the Web Site for the Office of Boating Safety, at http://www.uscgboating.org or at http://dms.dot.gov.

FOR FURTHER INFORMATION CONTACT: For questions on this notice, contact Carlton Perry, Project Manager, Office of Boating Safety, U. S. Coast Guard, by telephone at 202-267-0979 or by e-mail at cperry@comdt.uscg.mil. For questions on viewing or submitting material to the docket, call Dorothy Beard, Chief, Dockets, Department of Transportation, telephone 202-366-5149.

SUPPLEMENTARY INFORMATION:

Regulatory History

The Coast Guard published a notice of proposed rulemaking entitled “Federal Requirements For Propeller Injury Avoidance Measures” on December 10, 2001 [66 FR 63645]. That document also contains a detailed history of the Coast Guard's previous regulatory efforts in the area of propeller injury prevention.

Reason for Reopening the Comment Period

In response to the notice of proposed rulemaking, we received more than 70 comments, including a request from the President of NASBLA to extend the comment period beyond April 15, 2002, to enable the Boats & Associated Equipment Committee of NASBLA to review the proposal at its meeting and allow NASBLA to submit a comment to the docket. We are reopening the comment period until May 11, 2002, to let the committee discuss the proposed rulemaking at their meeting and for NASBLA to submit a comment to the docket. During this time, we will also accept comments from any other interested party. The Coast Guard requests that you not re-submit comments already in the docket.

Request for Comments

We encourage you to participate in this rulemaking by submitting your comments to the Docket Management Facility as specified in ADDRESSES. We will consider comments received during this reopened comment period and may change the proposed rule in response to the comments.

Dated: March 16, 2002.
Kenneth T. Venuto,
Rear Admiral, Coast Guard, Director of Operations Policy.

[FR Doc. 02-7230 Filed 3-25-02; 8:45 am]

BILLING CODE 4910-15-P